DEPARTMENT OF AGRICULTURE

Submission for OMB Review; Comment Request

March 12, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Public Support for Fuel Reduction Policies: Multimedia versus Printed Materials.

OMB Control Number: 0596-0203.

Summary of Collection: This information collection is being undertaken to solicit information on public support of two fuel reduction programs; prescribed burning and mechanical treatment. To gather the information needed for the study, a stratified random sample of California and Montana residents will be contacted by telephone through a random-digit dialing process. Those who agree to participate in the study will be asked an introductory set of questions to determine their pre-existing knowledge of fuels reduction treatments. This study will provide credible information to fire managers to plan fuels reduction treatment programs acceptable to the communities. In addition it will allow for the testing of whether a self-administered video survey elicits more support for prescribed burning and mechanical fuels treatment programs than a paper-based survey. The Healthy Forests Restoration Act (Pub.L. 108-148) gives the Forest Service the authority to collect this information.

Need and Use of the Information: Researchers will evaluate the responses of California and Montana residents to different scenarios related to fire hazard reduction program. Information collected will help natural resource and fire managers to better understand the public's opinions on fuels reduction activities and what type of media could be more effective in conveying information to the public. Without the information the agencies with fire protection responsibilities will lack the capability to evaluate the general public understanding of proposed fuels reduction projects and programs or their willingness-to-pay for implementing such programs.

Description of Respondents: Individuals or households.

Number of Respondents: 1,400.

Frequency of Responses: Reporting: Other (one-time).

Total Burden Hours: 617.

Charlene Parker,
Departmental Information Collection Clearance Officer.

[FR Doc. 2010-5863 Filed 3-17-10; 8:45 am]

BILLING CODE 3410-11-P